DEPARTMENT OF JUSTICE

Notice of Lodging of Proposed Consent Decree Under the Comprehensive Environmental Response, Compensation, and Liability Act

On September 30, 2024, the Department of Justice lodged a proposed Consent Decree with the United States District Court for the District of Utah in the lawsuit entitled United States v. EIDP, Inc., f/k/a E.I. Du Pont de Nemours and Company and Chemours Company FC, LLC, Civil Action No.: 24-cv-722.

The United States filed a Complaint against EIDP, Inc., f/k/a E.I. Du Pont de Nemours and Company, and the Chemours Company FC, LLC (“Defendants”). The Complaint alleges that the Defendants are liable under the Comprehensive Environmental Response, Compensation, and Liability Act for the United States' response costs incurred in connection with a response action taken because of the release or threatened release of hazardous substances at Operable Unit 1 of the Uintah Mining District Superfund Site, in Park City, Summit County, Utah (“Site”). The proposed Consent Decree requires the Defendants to pay $209,846 to resolve the United States' response cost claim. The Defendants are required to make the settlement payment within 15 days of the Effective Date of the Consent Decree. The proposed Consent Decree defines the “Effective Date” as the date that the Court approves the Consent Decree. In exchange for the settlement payment, the United States covenants not to sue the Defendants for any response costs incurred at the Site prior to the Effective Date.

The publication of this notice opens a period for public comment on the proposed Consent Decree. Comments should be addressed to the Assistant Attorney General, Environment and Natural Resources Division, and should refer to United States v. EIDP, Inc., f/k/a E.I. Du Pont de Nemours and Company and Chemours Company FC, LLC, D.J. Ref. No. 90-11-3-12464. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Consent Decree may be examined and downloaded at this Justice Department website: https://www.justice.gov/enrd/consent-decrees. If you require assistance accessing the proposed Consent Decree, you may request assistance by email or by mail to the addresses provided above for submitting comments.

Jason A. Dunn,
Assistant Section Chief, Environmental Enforcement Section, Environment and Natural Resources Division.

[FR Doc. 2024-22899 Filed 10-3-24; 8:45 am]

BILLING CODE 4410-15-P